DEPARTMENT OF ENERGY

Federal Energy Regulatory Commission

[Docket No. CP00-166-002]

Williams Gas Pipelines Central, Inc.; Notice of Application

May 21, 2002.

On May 9, 2002, Williams Gas Pipelines Central, Inc. (Williams), 3800 Frederica Street, Owensboro, Kentucky 42301, filed an application pursuant to section 7(c) of the Natural Gas Act (NGA), as amended, and the Federal Energy Regulatory Commission's (the Commission) Rules and Regulations thereunder. Williams requests authorization to further amend the certificate of public convenience and necessity issued on December 30, 1963, authorizing the Webb Storage Field in Grant County, Oklahoma, all as more fully set forth in the application to amend which is on file with the Commission and open to public inspection. Further, Williams requests expedited approval of the amendment so work can commence by July 15, 2002. This filing may be viewed on the Web at http://www.ferc.gov using the “RIMS” link, select “Docket #” and follow the instructions (call 202-208-2222 for assistance).

Williams requests authority to: (1) Place into service as part of its Webb Storage Field facilities, an existing gathering system which it has acquired in acquisition of additional buffer zone; and, (2) install a 60-Horsepower gas compressor, one measurement station, and certain related pipeline in the Webb Storage Field, in place of the facilities originally proposed by Williams and approved in the February 8, 2001 Commission Order Amending Certificate, 94 FERC ¶ 61,120. The cost of these modifications is estimated to be approximately $ 553,000.

Questions regarding the application may be directed to David N. Roberts, Manager of Tariffs and Regulatory Analysis, P.O. Box 20008, Owensboro, Kentucky 42304, or call (270) 688-6712.

There are two ways to become involved in the Commission's review of this project. First, any person wishing to obtain legal status by becoming a party to the proceedings for this project should, on or before June 6, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

If the Commission decides to set the application for a formal hearing before an Administrative Law Judge, the Commission will issue another notice describing that process. At the end of the Commission's review process, a final Commission order approving or denying a certificate will be issued.

Comments, protests and interventions may be filed electronically via the Internet in lieu of paper. See, 18 CFR 385.2001(a)(1)(iii) and the instructions on the Commission's Web site under the “e-Filing” link.

Magalie R. Salas,
Secretary.

[FR Doc. 02-13234 Filed 5-24-02; 8:45 am]

BILLING CODE 6717-01-P